DEPARTMENT OF ENERGY

Federal Energy Regulatory Commission

[Docket No. RP04-24-005]

Algonquin Gas Transmission Company; Notice of Motion To Withdraw Pleadings and Terminate Proceedings

April 21, 2004.

Take notice that on April 19, 2004, Algonquin Gas Transmission Company (Algonquin) filed a motion to withdraw its pleadings and terminate the proceedings in Docket Nos. RP04-24-000, 001, 002, and 003, as a result of reaching a Settlement Agreement. Algonquin requests expedited treatment of its motion.

Specifically, in its motion, Algonquin requests that the Commission: (i) approve the withdrawal of the Algonquin FERC filings in Docket Nos. RP04-24-000, 001, 002, and 003; (ii) terminate, as of the date of such order, in these dockets numbers, including the hearing procedures established by the Commission; and (iii) provide any necessary authorizations for Algonquin's system operations during the pendency of these proceedings, as they pertain to services provided on the AFT-1(X-38) and AFT-CL(X-37) facilities.

Algonquin states that it is seeking the Commission's approval to withdraw its pleadings and terminate these proceedings as a result of reaching a Settlement Agreement with USGen New England, Inc. (USGen). Algonquin states that granting this motion would resolve all issues raised in these proceedings in a manner that is consistent with the Commission's prior orders. Additionally, Algonquin states that the termination of these proceedings will not harm Algonquin's other customers, since the terms of the Settlement Agreement will only affect USGen.

Any person desiring to be heard or to protest said filing should file a comment or a protest with the Federal Energy Regulatory Commission, 888 First Street, NE., Washington, DC 20426, in accordance with sections 385.214 or 385.211 of the Commission's Rules and Regulations. All such comments or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “e-library”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-filing” link.

Comment Date: May 3, 2004.

Magalie R. Salas,
Secretary.

[FR Doc. E4-945 Filed 4-27-04; 8:45 am]

BILLING CODE 6717-01-P